DEPARTMENT OF THE INTERIOR

Bureau of Land Management

[CACA-051552, LLCAD0700 L51010000 ER0000 LVRWB10B3980]

Notice of Intent To Prepare a Land Use Plan Amendment and an Environmental Impact Statement for the Pattern Energy Group Ocotillo Express Wind Energy Project, Imperial County, CA

AGENCY: Bureau of Land Management, Interior.

ACTION: Notice of Intent.

SUMMARY: In compliance with the National Environmental Policy Act of 1969, as amended (NEPA); the Federal Land Policy and Management Act of 1976, as amended, and the California Environmental Quality Act (CEQA), the Bureau of Land Management (BLM) El Centro Field Office and Imperial County, California, intend to prepare a joint Environmental Impact Statement (EIS) and Environmental Impact Report (EIR) along with a proposed amendment to the California Desert Conservation Area (CDCA) Plan (1980, as amended). This notice announces the beginning of the scoping process to solicit public comments and identify issues.

DATES: This notice initiates the public scoping process for the Draft EIS/EIR and possible CDCA Plan amendment. Comments may be submitted in writing until January 12, 2011. The date(s) and location(s) of any scoping meetings and site visits will be announced at least 15 days in advance through local media, newspapers and the BLM Web site at: http://www.blm.gov/ca/st/en/fo/elcentro.html. In order to be included in the Draft EIR/EIS, all comments must be received prior to the close of the scoping period or 15 days after the last public meeting, whichever is later. We will provide additional opportunities for public participation upon publication of the Draft EIR/EIS.

ADDRESSES: You may submit comments on issues and planning criteria related to the Pattern Energy Group Ocotillo Express Wind Energy Project Draft EIR/EIS by any of the following methods:

• Web site: http://www.blm.gov/ca/st/en/fo/elcentro.html.

• E-mail: caocotillo@blm.gov.

• Fax: (760) 337-4490.

• Mail: Cedric Perry, Project Manager, California Desert District (CDD), BLM, 22835 Calle San Juan De Los Lagos, Moreno Valley, California 92553.

Documents pertinent to this proposal may be examined at the CDD or the BLM's California State Office, 2800 Cottage Way, Sacramento, California 95825.

FOR FURTHER INFORMATION CONTACT: For further information and/or to have your name added to the project mailing list, contact Cedric Perry, BLM Project Manager, telephone (951) 697-5388; address 22835 Calle San Juan De Los Lagos, Moreno Valley, CA 92553; e-mail Cedric_Perry@ca.blm.gov.

SUPPLEMENTARY INFORMATION: Ocotillo Express, LLC has submitted an application for a right-of-way authorization to construct, operate, maintain, and decommission, an approximate 15,000-acre, 550 megawatt (MW) wind energy project including a substation, administration, operations and maintenance facilities, transmission, and temporary construction lay down areas. The proposed wind energy project would be located on BLM administered lands and a small portion on lands under the jurisdiction of Imperial County, approximately 5 miles west of the town of Ocotillo, Imperial County, California. The proposed action consists of the construction, operation, maintenance, and decommissioning of wind turbine generators and associated facilities necessary to successfully generate up to 550 MW of electricity. The project would be constructed in 2 phases: Phase I is anticipated to total approximately 299 MW, and Phase II is about 251 MW. A recently approved high-voltage transmission line known as the Sunrise Powerlink crosses the Ocotillo Wind Energy Project site and will facilitate interconnection of the proposed project and transmission of its renewable energy output to Southern California.

The BLM will be the lead agency for NEPA compliance and Imperial County will act as the lead agency under CEQA for the project. The BLM has invited the U.S. Army Corps of Engineers (Corps) to be a cooperating Federal agency in the preparation of the EIR/EIS because the proposed project may require a section 404 permit under the Clean Water Act. The BLM and Corps agree that establishing a cooperating agency relationship will create a more streamlined and coordinated approach in developing the Ocotillo EIR/EIS and they will be developing a Memorandum of Understanding for this purpose.

The purpose of the public scoping process is to determine relevant issues that will influence the scope of the environmental analysis, including alternatives, and will guide the process of developing the EIR/EIS. At present, the BLM has identified the following preliminary issues: air quality, biological resources, recreation, cultural resources, water resources, geological resources, land use, noise, paleontological resources, land with wilderness characteristics, public health, socioeconomics, soils, traffic and transportation, visual resources, and other issues. Authorization of this proposal would require an amendment of the CDCA Plan. By this notice, the BLM is complying with requirements in 43 CFR 1610.2(c) to notify the public of potential amendments to land use plans. The BLM will integrate the land use planning process with the NEPA process for this project.

The BLM will use and coordinate the NEPA commenting process to satisfy the public involvement process for Section 106 of the National Historic Preservation Act (16 U.S.C. 470(f)) as provided for in 36 CFR 800.2(d)(3). Native American Tribal consultations will be conducted in accordance with policy, and Tribal concerns, including impacts on Indian trust assets, will be given due consideration. Federal, State, and local agencies, along with other stakeholders that may be interested or affected by the BLM's decision on this project, are invited to participate in the scoping process and, if eligible, may request or be requested by the BLM to participate as a cooperating agency.

Public comments, including names and street addresses of respondents, will be available for public review at the Bureau of Land Management, El Centro Field Office, 1661 South 4th Street, El Centro, California 92243, during regular business hours (8 a.m. to 4:30 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Thomas Pogacnik,
Deputy State Director, Natural Resources.

Authority: 40 CFR 1501.7 and 43 CFR 1610.2.

[FR Doc. 2010-31139 Filed 12-10-10; 8:45 am]

BILLING CODE 4310-40-P